DEPARTMENT OF AGRICULTURE

Forest Service

Northern New Mexico Resource Advisory Committee

AGENCY: Forest Service, USDA.

ACTION: Notice of meeting.

SUMMARY: The Northern New Mexico Resource Advisory Committee (NNM RAC) will meet in Albuquerque, New Mexico. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of the meeting is to review the status of Title II and funds to be allocated, discuss letter from Cibola and McKinley counties, monitoring report, review of administrative costs, provide opportunity for proponents to present proposals (5 minutes each), provide NNM RAC members opportunity to ask questions about proposals (3 minutes each), review proposal recommendation process, review and rank project proposal by Category Groups, provide recommendations for funding to Designated Federal Official and provide for public comment.

DATES: The meeting will be held on September 21, 2011 beginning at 10 a.m. and ending at 5 p.m. and on September 22, 2011 beginning at 8 a.m. and ending at 5 p.m.

ADDRESSES: The meeting will be held at the Cibola National Forest Supervisor's Office conference room located at 2113 Osuna Rd. NE., Albuquerque, NM 87113. Written comments may be submitted as described under SUPPLEMENTARY INFORMATION.

All comments, including names and addresses when provided, are placed in the record and are available for public inspection and copying. The public may inspect comments received at Carson National Forest, 208 Cruz Alta Rd., Taos, NM 87571. Please call ahead to 575-758-6344 to facilitate entry into the building to view comments.

FOR FURTHER INFORMATION CONTACT: Ignacio Peralta, RAC Coordinator, Carson National Forest, 575-758-6344, iperalta@fs.fed.us.

Individuals who use telecommunication devices for the deaf (TDD) may call the Federal Information Relay Service (FIRS) at 1-800-877-8339 between 8:00 a.m. and 8:00 p.m., Eastern Standard Time, Monday through Friday. Requests for reasonable accommodation for access to the facility or proceedings may be made by contacting the person listed for further information.

SUPPLEMENTARY INFORMATION: The following business will be conducted: review status of Title II and funds to be allocated, discuss letter from Cibola and McKinley counties, monitoring report, review of administrative costs, provide opportunity for proponents to present proposals (5 minutes each), provide NNM RAC members opportunity to ask questions about proposals (3 minutes each), review proposal recommendation process, review and rank project proposal by Category Groups, provide recommendations for funding to Designated Federal Official and provide for public comment. Anyone who would like to bring related matters to the attention of the committee may file written statements with the committee staff before or after the meeting. The agenda will include time for people to make oral statements of three minutes or less. Individuals wishing to make an oral statement should request in writing by September 14, 2011 to be scheduled on the agenda. Written comments and requests for time for oral comments must be sent to 208 Cruz Alta Road, Taos, New Mexico 87571, or by e-mail to iperalta@fs.fed.us, or via facsimile to 575-758-6213.

Dated: August 31, 2011.
John Miera,
Acting Forest Supervisor, Carson National Forest.

[FR Doc. 2011-22796 Filed 9-6-11; 8:45 am]

BILLING CODE 3410-11-P